DEPARTMENT OF TRANSPORTATION

Federal Aviation Administration

14 CFR Part 39

[Docket No. FAA-2019-0986; Product Identifier 2019-NM-201-AD; Amendment 39-21020; AD 2019-25-55]

RIN 2120-AA64

Airworthiness Directives; The Boeing Company Airplanes

AGENCY: Federal Aviation Administration (FAA), DOT.

ACTION: Final rule; request for comments.

SUMMARY: The FAA is adopting a new airworthiness directive (AD) for The Boeing Company Model 737-300, -400, and -700 series airplanes, modified to a Bedek Division Special Freighter (BDSF) by Supplemental Type Certificate (STC) ST01566LA, ST01961SE, or ST02556SE, with a 9G rigid barrier. An emergency AD was sent to all known U.S. owners and operators of these airplanes. This AD requires complying with loading restrictions and methods. This AD was prompted by a review of the manufacturing process for the 9G rigid barrier installed on BDSF conversions that identified a manufacturing non-compliance. The FAA is issuing this AD to address the unsafe condition on these products.

DATES: This AD is effective January 21, 2020 to all persons except those persons to whom it was made immediately effective by Emergency AD 2019-25-55, issued on December 13, 2019, which contained the requirements of this amendment.

The Director of the Federal Register approved the incorporation by reference of a certain publication listed in this AD as of January 21, 2020.

The FAA must receive comments on this AD by March 6, 2020.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this final rule, contact Israel Aerospace Industries, LTD., Ben-Gurion International Airport, 70100 Israel; telephone 972-3-935-3090; email aviation_group@iai.co.il; internet https://www.iai.co.il/about/groups/aviation-group. You may view this service information at the FAA, Transport Standards Branch, 2200 South 216th St., Des Moines, WA. For information on the availability of this material at the FAA, call 206-231-3195. It is also available on the internet at https://www.regulations.gov by searching for and locating Docket No. FAA-2019-0986.

Examining the AD Docket

You may examine the AD docket on the internet at https://www.regulations.gov by searching for and locating Docket No. FAA-2019-0986; or in person at Docket Operations between 9 a.m. and 5 p.m., Monday through Friday, except Federal holidays. The AD docket contains this final rule, the regulatory evaluation, any comments received, and other information. The street address for Docket Operations is listed above. Comments will be available in the AD docket shortly after receipt.

FOR FURTHER INFORMATION CONTACT: Eric Lin, Aerospace Engineer, Airframe Section, FAA, Seattle ACO Branch, 2200 South 216th St., Des Moines, WA 98198; phone and fax: 206-231-3523; email: eric.lin@faa.gov.

SUPPLEMENTARY INFORMATION:

Discussion

The Civil Aviation Authority of Israel (CAAI), which is the aviation authority for Israel, has issued Israeli AD ISR-I-53-2019-12-6, dated December 12, 2019 (referred to after this as the Mandatory Continuing Airworthiness Information, or “the MCAI”), to correct an unsafe condition for The Boeing Company Model 737-300, -400, and -700 series airplanes, modified to a BDSF by STC ST01566LA, ST01961SE, or ST02556SE, with a 9G rigid barrier. You may examine the MCAI on the internet at https://www.regulations.gov by searching for and locating Docket No. FAA-2019-0986.

On December 13, 2019, the FAA issued Emergency AD 2019-25-55, which requires complying with loading restrictions and methods. The emergency AD was sent previously to all known U.S. owners and operators of these airplanes. This action was prompted by a review of the manufacturing process for the 9G rigid barrier installed on BDSF conversions that identified a manufacturing non-compliance. It has been found that the surface preparation before bonding was improperly done, which can affect the 9G rigid barrier's strength characteristics. This condition, if not addressed, could result in the potential failure of the 9G rigid barrier under certain emergency landing loads, which could injure occupants. See the MCAI for additional background information.

Related Service Information Under 1 CFR Part 51

The FAA reviewed Israel Aerospace Industries Service Bulletin 365-00-054, dated December 2019. This service information describes loading restrictions and methods that include reducing the cargo weights for each loading configuration and using additional straps when necessary to address 9G rigid barrier manufacturing non-compliance. This service information is reasonably available because the interested parties have access to it through their normal course of business or by the means identified in the ADDRESSES section.

FAA's Determination

Pursuant to a bilateral agreement with the State of Design Authority, the FAA has been notified of the unsafe condition described in the MCAI and service information referenced above. The FAA is issuing this AD because the agency evaluated all pertinent information and determined the unsafe condition exists and is likely to exist or develop on other products of the same type design.

AD Requirements

This AD requires complying with the loading restrictions and methods specified in the service information described previously, except as discussed under “Differences Between this AD and the Service Information.”

Differences Between This AD and the Service Information

Where Israel Aerospace Industries Service Bulletin 365-00-054, dated December 2019, specifies using cargo restraint straps rated at a minimum of 7,500 pounds, this AD requires using Technical Standard Order TSO-C172 cargo restraint straps; that TSO specifies a load rating of 5,000 pounds. This exception corrects the Israel Aerospace Industries service bulletin's reference to a TSO-C172 cargo strap load rating of 7,500 pounds; the cargo strap load capability specified in the TSO is 5,000 pounds.

This AD specifies that the provisions for restraining cargo directly to a pallet or the airplane as provided in the existing airplane flight manual (AFM) (reference section 1-68-XX of the Israel Aerospace Industries Weight and Balance Manual (WBM)) can only be used if that cargo and all cargo aft of that location are restrained to a forward load factor of 9G. This exception corrects an omission in the Israel Aerospace Industries' service bulletin.

Interim Action

The FAA considers this AD interim action.

FAA's Determination of the Effective Date

An unsafe condition exists that requires the immediate adoption of Emergency AD 2019-25-55, issued on December 13, 2019, to all known U.S. owners and operators of these airplanes. The FAA found that the risk to the flying public justified waiving notice and comment prior to adoption of this rule because the potential failure of the 9G rigid barrier, under certain emergency landing loads, could injure occupants. These conditions still exist and the AD is hereby published in the Federal Register as an amendment to section 39.13 of the Federal Aviation Regulations (14 CFR 39.13) to make it effective to all persons. Therefore, the FAA finds good cause that notice and opportunity for prior public comment are impracticable. In addition, for the reasons stated above, the FAA finds that good cause exists for making this amendment effective in less than 30 days.

Comments Invited

This AD is a final rule that involves requirements affecting flight safety and was not preceded by notice and an opportunity for public comment. However, the FAA invites you to send any written data, views, or arguments about this final rule. Send your comments to an address listed under the ADDRESSES section. Include the docket number FAA-2019-0986 and Product Identifier 2019-NM-201-AD at the beginning of your comments. The FAA specifically invites comments on the overall regulatory, economic, environmental, and energy aspects of this final rule. The FAA will consider all comments received by the closing date and may amend this final rule because of those comments.

The FAA will post all comments received, without change, to https://www.regulations.gov, including any personal information you provide. The FAA will also post a report summarizing each substantive verbal contact received about this final rule.

Regulatory Flexibility Act

The requirements of the Regulatory Flexibility Act (RFA) do not apply when an agency finds good cause pursuant to 5 U.S.C. 553 to adopt a rule without prior notice and comment. Because the FAA has determined that it has good cause to adopt this rule without notice and comment, RFA analysis is not required.

Costs of Compliance

The FAA estimates that this AD affects 6 airplanes of U.S. registry. The FAA estimates the following costs to comply with this AD:

Estimated Costs for Required Actions
Labor cost | Parts cost | Cost per product | Cost on U.S. operators
1 work-hour × $85 per hour = $85 | $0 | $85 | $510

Authority for This Rulemaking

Title 49 of the United States Code specifies the FAA's authority to issue rules on aviation safety. Subtitle I, section 106, describes the authority of the FAA Administrator. “Subtitle VII: Aviation Programs” describes in more detail the scope of the Agency's authority.

The FAA is issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2019-25-55 The Boeing Company: Amendment 39-21020; Docket No. FAA-2019-0986; Product Identifier 2019-NM-201-AD.

(a) Effective Date

This AD is effective January 21, 2020 to all persons except those persons to whom it was made immediately effective by Emergency AD 2019-25-55, issued on December 13, 2019, which contained the requirements of this amendment.

(b) Affected ADs

None.

(c) Applicability

This AD applies to The Boeing Company Model 737-300, -400, and -700 series airplanes, certificated in any category, modified to a Bedek Division Special Freighter (BDSF) by Supplemental Type Certificate (STC) ST01566LA, ST01961SE, or ST02556SE, with a 9G rigid barrier.

(d) Subject

Air Transport Association (ATA) of America Code 25, Equipment/Furnishings.

(e) Unsafe Condition

This AD was prompted by a review of the manufacturing process for the 9G rigid barrier installed on BDSF conversions that identified a manufacturing non-compliance. It has been found that the surface preparation before bonding was improperly done, which can affect the 9G rigid barrier's strength characteristics. The FAA is issuing this AD to address potential failure of the 9G rigid barrier under certain emergency landing loads, which could injure occupants.

(f) Compliance

Comply with this AD within the compliance times specified, unless already done.

(g) Loading Restrictions and Methods

Before further flight, comply with the loading restrictions and methods specified in the Accomplishment Instructions of Israel Aerospace Industries Service Bulletin 365-00-054, dated December 2019, except as specified in paragraph (h) of this AD. The loading restrictions include reducing the cargo weights for each loading configuration and using additional straps as applicable.

(h) Exceptions to Service Information

(1) Where Israel Aerospace Industries Service Bulletin 365-00-054, dated December 2019, specifies using cargo restraint straps rated at a minimum of 7,500 pounds, for this AD use Technical Standard Order TSO-C172 cargo restraint straps; that TSO specifies a load rating of 5,000 pounds.

(2) The provisions for restraining cargo directly to a pallet or the airplane as provided in the existing airplane flight manual (AFM) can only be used if that cargo and all cargo aft of that location are restrained to a forward load factor of 9G.

(i) Alternative Methods of Compliance (AMOCs)

The Manager, Seattle ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (j)(2) of this AD. Information may be emailed to: 9-ANM-Seattle-ACO-AMOC-Requests@faa.gov. Before using any approved AMOC, notify your appropriate principal inspector, or lacking a principal inspector, the manager of the local flight standards district office/certificate holding district office.

(j) Related Information

(1) Refer to Mandatory Continuing Airworthiness Information (MCAI) Israeli AD ISR-I-53-2019-12-6, dated December 12, 2019, for related information.

(2) For more information about this AD, contact Eric Lin, Aerospace Engineer, Airframe Section, FAA, Seattle ACO Branch, 2200 South 216th St., Des Moines, WA 98198; phone and fax: 206-231-3523; email: eric.lin@faa.gov.

(k) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Israel Aerospace Industries Service Bulletin 365-00-054, dated December 2019.

(ii) [Reserved]

(3) For service information identified in this AD, contact Israel Aerospace Industries, LTD., Ben-Gurion International Airport, 70100 Israel; telephone 972-3-935-3090; email aviation_group@iai.co.il; internet https://www.iai.co.il/about/groups/aviation-group.

(4) You may view this service information at the FAA, Transport Standards Branch, 2200 South 216th St., Des Moines, WA. For information on the availability of this material at the FAA, call 206-231-3195.

(5) You may view this service information that is incorporated by reference at the National Archives and Records Administration (NARA). For information on the availability of this material at NARA, email fedreg.legal@nara.gov, or go to: https://www.archives.gov/federal-register/cfr/ibr-locations.html.

Issued on December 26, 2019.
Dionne Palermo,
Acting Director, System Oversight Division, Aircraft Certification Service.

[FR Doc. 2020-00798 Filed 1-17-20; 8:45 am]

BILLING CODE 4910-13-P